DEPARTMENT OF COMMERCE

National Oceanic and Atmospheric Administration

RIN 0648-XA90

Nominations for the Western and Central Pacific Fisheries Commission Advisory Committee

AGENCY: National Marine Fisheries Service (NMFS), National Oceanic and Atmospheric Administration (NOAA), Commerce.

ACTION: Request for nominations.

SUMMARY: NMFS, on behalf of the Secretary of Commerce, is seeking nominations for the advisory committee established under the Western and Central Pacific Fisheries Convention Implementation Act (Act). The advisory committee, to be composed of individuals from groups concerned with the fisheries covered by the Western and Central Pacific Fisheries Convention (Convention), will be given the opportunity to provide input to the United States Commissioners to the Western and Central Pacific Fisheries Commission (Commission) regarding the deliberations and decisions of the Commission.

DATES: Nominations must be received no later than September 10, 2007.

ADDRESSES: Nominations should be directed to William L. Robinson, Regional Administrator, NMFS Pacific Islands Regional Office, and may be submitted by any of the following means:

• E-mail: pir.wcpfc@noaa.gov. Include in the subject line the following document identifier: “Advisory committee nominations”. E-mail messages, with or without attachments, are limited to 5 megabytes.

• Mail or hand delivery: 1601 Kapiolani Blvd. Suite 1110, Honolulu, HI 96814.

• Facsimile: 808-973-2941.

FOR FURTHER INFORMATION CONTACT: Raymond P. Clarke, NMFS Pacific Islands Regional Office; telephone: 808-944-2205; facsimile: 808-973-2941; e-mail: raymond.clarke@noaa.gov.

SUPPLEMENTARY INFORMATION:

The Convention and the Commission

The objective of the Convention is to ensure, through effective management, the long-term conservation and sustainable use of highly migratory fish stocks in the western and central Pacific Ocean in accordance with the United Nations Convention on the Law of the Sea of 1982 (UNCLOS) and the Agreement for the Implementation of the Provisions of the UNCLOS Relating to the Conservation and Management of Straddling Fish Stocks and Highly Migratory Fish Stocks. The Convention establishes the Commission, the secretariat of which is based in Pohnpei, Federated States of Micronesia.

The Convention applies to all highly migratory fish stocks (defined as all fish stocks of the species listed in Annex I of the UNCLOS occurring in the Convention Area, and such other species of fish as the Commission may determine), except sauries.

The United States played a very active role in supporting the negotiations and the development of the Convention and signed the Convention when it was opened for signature in 2000. It has participated as a cooperating non-member in the Commission since it became operational in 2005. Upon completion of the Convention ratification process, which will occur July 27, 2007, the United States will become a Contracting Party to the Convention and a full member of the Commission. Under the Act, the United States will be represented on the Commission by five United States Commissioners, appointed by the President.

Advisory Committee

The Act (Public Law 109-479, sec 501-511) provides (in sec 503(d)) that the Secretary of Commerce, in consultation with the United States Commissioners to the Commission, will appoint certain members of the advisory committee established under the Act.

The members to be appointed to the advisory committee are to include not less than 15 nor more than 20 individuals selected from the various groups concerned with the fisheries covered by the Convention, providing, to the extent practicable, an equitable balance among such groups. On behalf of the Secretary of Commerce, NMFS is now seeking nominations for these appointments.

In addition to the 15-20 appointed members, the advisory committee also includes the chair of the Western and Central Pacific Fishery Management Council's Advisory Committee (or designee), and officials of the fisheries management authorities of American Samoa, Guam, and the Northern Mariana Islands (or their designees).

Members of the advisory committee will be invited to attend all non-executive meetings of the United States Commissioners to the Commission and at such meetings will be given opportunity to examine and be heard on all proposed programs of investigation, reports, recommendations, and regulations of the Commission.

Each appointed member of the advisory committee will serve for a term of two years and will be eligible for reappointment.

The Secretaries of Commerce and State will furnish the advisory committee with relevant information concerning fisheries and international fishery agreements.

NMFS, on behalf of the Secretary of Commerce, will provide to the advisory committee administrative and technical support services as are necessary for its effective functioning.

Appointed members of the advisory committee will serve without pay, but while away from their homes or regular places of business in the performance of services for the advisory committee will be allowed travel expenses, including per diem in lieu of subsistence, in the same manner as persons employed intermittently in the Government service are allowed expenses under section 5703 of title 5, United States Code. They will be considered Federal employees while performing service as members of the advisory committee only for purposes of: (1) injury compensation under chapter 81 of title 5, United States Code; (2) requirements concerning ethics, conflicts-of-interest, and corruption, as provided by title 18, United States Code, and (3) any other criminal or civil statute or regulation governing the conduct of Federal employees in their capacity as Federal employees.

Procedure for Submitting Nominations

Nominations for the advisory committee should be submitted to NMFS (see ADDRESSES). Self nominations are acceptable. Nominations should include the following information: (1) Full name, address, telephone, facsimile, and e-mail of nominee; (2) nominee's organization(s) or professional affiliation(s) serving as the basis for the nomination, if any; and (3) a background statement, not to exceed one page in length, describing the nominee's qualifications, experience and interests, specifically as related to the fisheries covered by the Convention.

Dated: July 6, 2007.
James P. Burgess,
Acting Director, Office of Sustainable Fisheries, National Marine Fisheries Service.

[FR Doc. E7-13476 Filed 7-10-07; 8:45 am]

BILLING CODE 3510-22-S